DEPARTMENT OF AGRICULTURE

Foreign Agricultural Service

Trade Adjustment Assistance for Farmers

AGENCY: Foreign Agricultural Service, USDA.

ACTION: Notice.

The Administrator, Foreign Agricultural Service (FAS), today accepted a petition filed by a group of fresh garlic producers in the state of California for trade adjustment assistance. The Administrator will determine within 40 days whether or not imports of garlic contributed importantly to a decline in domestic producer prices of more than 20 percent during the marketing period beginning October 2002 and ending September 2003. If the determination is positive, all producers represented by the group will be eligible to apply to the Farm Service Agency for technical assistance at no cost and adjustment assistance payments.

FOR FURTHER INFORMATION CONTACT: Jean-Louis Pajot, Coordinator, Trade Adjustment Assistance for Farmers, FAS, USDA, (202) 720-2916, e-mail: trade.adjustment@fas.usda.gov.

Dated: October 10, 2003.
A. Ellen Terpstra,
Administrator, Foreign Agricultural Service.

[FR Doc. 03-27145 Filed 10-27-03; 8:45 am]

BILLING CODE 3410-10-M